DEPARTMENT OF HEALTH AND HUMAN SERVICES

Centers for Disease Control and Prevention

Informational Meeting: The Importation and Exportation of Infectious Biological Agents, Infectious Substances and Vectors; Public Webcast

AGENCY: Centers for Disease Control and Prevention (CDC), Department of Health and Human Services (HHS).

ACTION: Notice of public webcast.

SUMMARY: The Centers for Disease Control and Prevention (CDC), Department of Health and Human Services (HHS) is hosting a public webcast to address import and export permit regulations for infectious biological agents, infectious substances, and vectors; and import and export permit exemptions. Presenters for this webcast will include representatives from the U.S. Department of Transportation (DOT), United States Department of Agriculture (USDA) Animal and Plant Health Inspection Service (APHIS), CDC Division of Global Migration and Quarantine, U.S. Customs and Border Protection, U.S. Department of Commerce, U.S. Food and Drug Administration, HHS/Office of the Assistant Secretary for Preparedness and Response/Biomedical Advanced Research and Development Authority (BARDA), U.S. Fish and Wildlife Service, and the Public Health Agency of Canada.

DATES: The webcast will be held over two days, August 3, 2016 from 12 p.m. to 4 p.m. EDT and August 4, 2016 from 12:00 p.m. to 4:00 p.m. Registration instructions are found on the HHS/CDC Import Permit Program Web site, http://www.cdc.gov/od/eaipp/importApplication/agents.htm.

ADDRESSES: The webcast will be broadcast from the Centers for Disease Control and Prevention, 1600 Clifton Road NE., Atlanta, Georgia 30329.

FOR FURTHER INFORMATION CONTACT: Von McClee, Division of Select Agents and Toxins, Office of Public Health Preparedness and Response, Centers for Disease Control and Prevention, 1600 Clifton Road, NE., MS A-46, Atlanta, GA 30333; phone: 404-718-2000; email: lrsat@cdc.gov.

SUPPLEMENTARY INFORMATION: This webcast is an opportunity for all interested parties (e.g., academic institutions and biomedical centers, commercial manufacturing facilities, federal, state, and local laboratories, including clinical and diagnostic laboratories, research facilities, exhibition facilities, and educational facilities) to obtain specific guidance and information regarding import and export permit regulations. The webcast will also provide assistance to those interested in applying for an import or export permit (or license) from federal agencies within the United States.

Instructions for registration are found on the HHS/CDC Import Permit Program Web site, http://www.cdc.gov/od/eaipp/importApplication/agents.htm. Participants must register by July 15, 2016. This is a webcast only event and there will be no on-site participation at the HHS/CDC broadcast facility.

Dated: May 27, 2016.
Veronica Kennedy,
Acting Executive Secretary, Centers for Disease Control and Prevention.

[FR Doc. 2016-13053 Filed 6-1-16; 8:45 am]

BILLING CODE 4163-18-P